DEPARTMENT OF AGRICULTURE

Forest Service

Southern Region Recreation Resource Advisory Committee

AGENCY: Forest Service, USDA.

ACTION: Notice of meeting.

SUMMARY: The Southern Region Recreation Resource Advisory Committee (Recreation RAC) will meet in Decatur, Georgia. The Recreation RAC is authorized pursuant with the Federal Lands Recreation Enhancement Act of 2004 (the Act) and the Federal Advisory Committee Act of 1972 (FACA). Additional information concerning the Recreation RAC can be found by visiting the Recreation RAC's Web site at: http://www.fs.usda.gov/main/r8/recreation/racs.

DATES: The meeting will be held on:

• Tuesday, May 9, 2017, from 8:30 a.m.-5:00 p.m.; and

• Wednesday, May 10, 2017, from 8:30 a.m.-5:00 p.m.

All Recreation RAC meetings are subject to cancellation. For status of the meetings prior to attendance, please contact the person listed under the FOR FURTHER INFORMATION CONTACT.

ADDRESSES: The meeting will be held on Tuesday, May 9, 2017 at the Courtyard Marriott, 130 Clairemont Avenue, Decatur, Georgia and Wednesday, May 10, 2017 on a field trip at the Chattahoochee-Oconee National Forest. Written comments may be submitted as described under SUPPLEMENTARY INFORMATION. All comments, including names and addresses, when provided, are placed in the record and available for public inspection and copying. The public may inspect comments received at the USDA Forest Service, 1720 Peachtree Road, Northwest, Atlanta, Georgia. Visitors are encouraged to call ahead at 404-347-2769 to facilitate entry into the USDA Forest Service building.

FOR FURTHER INFORMATION CONTACT: Tiffany Williams, Committee Coordinator, USDA Forest Service, 1720 Peachtree Road NW., Atlanta, Georgia 30309, or by phone at 404-347-2769.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Discuss preliminary administrative work such as adoption of by-laws;

(2) Review of procedures such as roles and responsibilities, FACA, and ethics;

(3) Review the fee proposal schedule; and

(4) View some of the Southern Region's recreation sites and programs.

The meeting is open to the public. Written comments and time requests for oral comments must be sent to Tiffany Williams, Committee Coordinator, USDA Forest Service, 1720 Peachtree Road Northwest, Atlanta, Georgia 30309; by email to tiffanypwilliams@fs.fed.us, or via facsimile to 404-347-6217. A summary of the meeting will be posted on the Web site listed above within 21 days of the meeting.

Meeting Accommodations: If you require reasonable accommodation, please make your request in advance for sign language interpreting, assistive listening devices, or other reasonable accommodation, please request this in advance of the meeting by contacting the person listed in the section titled FOR FURTHER INFORMATION CONTACT. All reasonable accommodation requests are managed on a case by case basis.

Dated: March 30, 2017.
Jeanne M. Higgins,
Acting Associate Deputy Chief, National Forest System.

[FR Doc. 2017-07835 Filed 4-17-17; 8:45 am]

BILLING CODE 3411-15-P